FEDERAL COMMUNICATIONS COMMISSION

47 CFR Part 73

[DA 06-433; MB Docket No. 06-46; RM-11288]

Radio Broadcasting Services; Arkansas City, KS and Waukomis, OK

AGENCY: Federal Communications Commission.

ACTION: Proposed rule.

SUMMARY: This document requests comments on a Petition for Rule Making filed by Linda Crawford, d/b/a Waukomis Broadcasting, proposing the allotment of Channel 292A at Waukomis, Oklahoma, as the community's first local aural transmission service. To accommodate this allotment, Petitioner requested the reclassification of Station KYQQ (FM) Channel 293C, Arkansas City, Kansas, to specify operation on Channel 293C0 pursuant to the reclassification procedures adopted by the Commission. Due to a failure to respond to an Order to Show Cause, Station KYQQ (FM) has been downgraded to Channel 293C0 to accommodate the Waukomis proposed allotment. Channel 292A can be allotted at Waukomis in compliance with the Commission's minimum distance separation requirements with a site restriction of 6.3 kilometers (3.9 miles) southwest of the community. The coordinates for Channel 292A at Waukomis are 36-14-01 North Latitude and 97-56-25 West Longitude.

DATES: Comments must be filed on or before April 17, 2006, and reply comments on or before May 2, 2006. Any counterproposal filed in this proceeding need only protect FM Station KYQQ (FM) Arkansas City, Kansas, as a Class C0 allotment.

ADDRESSES: Federal Communications Commission, 445 Twelfth Street, SW., Washington, DC 20554. In addition to filing comments with the FCC, interested parties should serve the petitioner, as follows: Ms. Linda Crawford, Waukomis Broadcasting, 3500 Maple Ave., #1320, Dallas, Texas 75219.

FOR FURTHER INFORMATION CONTACT: Sharon P. McDonald, Media Bureau, (202) 418-2180.

SUPPLEMENTARY INFORMATION: This is a synopsis of the Commission's Notice of Proposed Rule Making, MB Docket No. 06-46, adopted February 22, 2006, and released February 24, 2006. The complete text of this decision may also be purchased from the Commission's duplicating contractor, Best Copy and Printing, Inc., 445 12th Street, SW, Room CY-B402, Washington, DC 20054, telephone 1-800-378-3160 or http://www.BCPIWEB.com. This document does not contain proposed information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4).

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio, Radio broadcasting.

For the reasons discussed in the preamble, the Federal Communications Commission proposes to amend 47 CFR Part 73 as follows:

PART 73—RADIO BROADCAST SERVICES

1. The authority citation for part 73 continues to read as follows:

Authority: 47 U.S.C. 154, 303, 334, 336.

§ 73.202 [Amended]

2. Section 73.202(b), the Table of FM Allotments under Oklahoma, is amended by adding Waukomis, Channel 292A.

Federal Communications Commission.
John A. Karousos,
Assistant Chief, Audio Division, Media Bureau.

[FR Doc. E6-3731 Filed 3-14-06; 8:45 am]

BILLING CODE 6712-01-P